DEPARTMENT OF ENERGY

Federal Energy Regulatory Commission

Combined Notice of Filings

Take notice that the Commission has received the following Natural Gas Pipeline Rate and Refund Report filings:

Filings Instituting Proceedings

Docket Numbers: RP17-1073-000.

Applicants: Natural Gas Pipeline Company of America.

Description: Penalty Revenue Crediting Report of Natural Gas Pipeline Company of America LLC.

Filed Date: 9/22/17.

Accession Number: 20170922-5035.

Comments Due: 5 p.m. ET 11/2/17.

Docket Numbers: RP17-1080-000.

Applicants: LA Storage, LLC.

Description: Annual Penalty Disbursement Report of LA Storage, LLC.

Filed Date: 9/22/17.

Accession Number: 20170922-5173.

Comments Due: 5 p.m. ET 11/3/17.

Docket Numbers: RP17-1081-000.

Applicants: Mississippi Hub, LLC.

Description: Annual Penalty Disbursement Report of Mississippi Hub, LLC.

Filed Date: 9/22/17.

Accession Number: 20170922-5174.

Comments Due: 5 p.m. ET 11/3/17.

Docket Numbers: RP18-56-000.

Applicants: Texas Eastern Transmission, LP.

Description: § 4(d) Rate Filing: Negotiated Rates—Conoco 911441 to be effective 11/1/2017.

Filed Date: 10/25/17.

Accession Number: 20171025-5156.

Comments Due: 5 p.m. ET 11/6/17.

Docket Numbers: RP18-57-000.

Applicants: Alliance Pipeline L.P.

Description: § 4(d) Rate Filing: Housekeeping Sheet No. 18 to be effective 11/1/2017.

Filed Date: 10/25/17.

Accession Number: 20171025-5167.

Comments Due: 5 p.m. ET 11/6/17.

Docket Numbers: RP18-58-000.

Applicants: Southern LNG Company, L.L.C.

Description: § 4(d) Rate Filing: SLNG Electric Power Cost Adjustment—2017 to be effective 12/1/2017.

Filed Date: 10/26/17.

Accession Number: 20171026-5040.

Comments Due: 5 p.m. ET 11/7/17.

Docket Numbers: RP18-59-000.

Applicants: Texas Eastern Transmission, LP.

Description: § 4(d) Rate Filing: ConocoPhillips K910882 eff. 11-1-2017 to be effective 11/1/2017.

Filed Date: 10/26/17.

Accession Number: 20171026-5279.

Comments Due: 5 p.m. ET 11/7/17.

Docket Numbers: RP18-60-000.

Applicants: Texas Eastern Transmission, LP.

Description: § 4(d) Rate Filing: PCB TETLP DEC 2017 FILING to be effective 12/1/2017.

Filed Date: 10/26/17.

Accession Number: 20171026-5302.

Comments Due: 5 p.m. ET 11/7/17.

Docket Numbers: RP18-61-000.

Applicants: Dauphin Island Gathering Partners.

Description: 2017 Cash Out Report of Dauphin Island Gathering Partners.

Filed Date: 10/26/17.

Accession Number: 20171026-5319.

Comments Due: 5 p.m. ET 11/7/17.

Docket Numbers: RP18-62-000.

Applicants: Midwestern Gas Transmission Company.

Description: Compliance filing 2016-2017 Cashout Report.

Filed Date: 10/27/17.

Accession Number: 20171027-5079.

Comments Due: 5 p.m. ET 11/8/17.

Docket Numbers: RP18-63-000.

Applicants: Midwestern Gas Transmission Company.

Description: Compliance filing 2016-2017 Gas Sales and Purchases Report.

Filed Date: 10/27/17.

Accession Number: 20171027-5080.

Comments Due: 5 p.m. ET 11/8/17.

Docket Numbers: RP18-64-000.

Applicants: Natural Gas Pipeline Company of America.

Description: § 4(d) Rate Filing: Negotiated Rate Filing Tenaska Marketing Ventures to be effective 11/1/2017.

Filed Date: 10/27/17.

Accession Number: 20171027-5092.

Comments Due: 5 p.m. ET 11/8/17.

Docket Numbers: RP18-65-000.

Applicants: Guardian Pipeline, L.L.C.

Description: Compliance filing 2016-2017 Gas Sales and Purchases Report.

Filed Date: 10/27/17.

Accession Number: 20171027-5093.

Comments Due: 5 p.m. ET 11/8/17.

Docket Numbers: RP18-66-000.

Applicants: Natural Gas Pipeline Company of America.

Description: § 4(d) Rate Filing: Shell Energy North Negotiated Rate to be effective 11/1/2017.

Filed Date: 10/27/17.

Accession Number: 20171027-5096.

Comments Due: 5 p.m. ET 11/8/17.

Docket Numbers: RP18-67-000.

Applicants: OkTex Pipeline Company, L.L.C.

Description: Compliance filing 2016-2017 Gas Sales and Purchases Report.

Filed Date: 10/27/17.

Accession Number: 20171027-5100.

Comments Due: 5 p.m. ET 11/8/17.

Docket Numbers: RP18-68-000.

Applicants: Viking Gas Transmission Company.

Description: Compliance filing 2016-2017 Gas Sales and Purchases Report.

Filed Date: 10/27/17.

Accession Number: 20171027-5110.

Comments Due: 5 p.m. ET 11/8/17.

Docket Numbers: RP18-69-000.

Applicants: Texas Eastern Transmission, LP.

Description: Compliance filing TETLP OFO October 2017 Penalty Disbursement Report.

Filed Date: 10/27/17.

Accession Number: 20171027-5161.

Comments Due: 5 p.m. ET 11/8/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2017.
Nathaniel J. Davis, Sr.,
Deputy Secretary.

[FR Doc. 2017-24147 Filed 11-6-17; 8:45 am]

BILLING CODE 6717-01-P